DEPARTMENT OF HEALTH AND HUMAN SERVICES

[30-Day notice]

Agency Information Collection Request. 30-Day Public Comment Request, Grants.gov

AGENCY: Office of the Secretary, HHS.

Agency Information Collection Request; 30-Day Public Comment Request; Grants.gov.

In compliance with the requirement of section 3506(c)(2)(A) of the Paperwork Reduction Act of 1995, Grants.gov (EGOV), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, to Ed.Calimag@hhs.gov, or call the Reports Clearance Office on (202) 690-6162. Send written comments and recommendations for the proposed information collections within 30 days of this notice directly to the Grants.gov OMB Desk Officer; faxed to OMB at 202-395-6974.

Proposed Project

Application for Federal Assistance Research and Related SF424 OMB No. 4040-0001.

3 Year Extension and assignment as a Common Form.

Office: Grants.gov.

Abstract: The Application for Federal Assistance SF-424 Research and Related is an OMB-approved collection (4040-0001). This information collection is used by more than 26 Federal grant-making entities for research and related projects. This IC originally was to expire on June 30, 2016. The expiration date has been extended to July 31, 2016. We are requesting a three-year clearance of this collection and that it be designated as a Common Form.

Estimated Annualized Burden Table:

Total Estimated Annualized Burden Hours
Form name | Number of respondents | Number of responses per respondent | Average burden per response (in hours) | Total burden hours
SF-424 Application for Federal Assistance—Research and Related | 137,407 | 1 | 1 | 137,407
Research and Related Budget 5 Year | 121,416 | 1 | 1 | 121,416
Research and Related Budget 10 Year | 1,118 | 1 | 1 | 1,118
SF-424 Research and Related Multi-Project Cover | 1,570 | 1 | 1 | 1,570
Research & Related Multi-Project 10 Year Budget | 1,570 | 1 | 1 | 1,570
R & R Multi-Project Subaward Budget Attachment(s) Form 10YR 30ATT | 1,570 |  |  | 1,570
R & R Subaward Budget Attachment(s) Form | 217 |  |  | 217
R & R Subaward Budget Attachment(s) Form 5 YR 30 ATT | 121,088 | 1 | 1 | 121,088
R & R Subaward Budget Attachment(s) Form 10 YR 30 ATT | 1,118 | 1 | 1 | 1,118
Research & Related Senior/Key Person Profile | 218 | 1 | 1 | 218
Research and Related Senior/Key Person Profile (Expanded) | 136,940 | 1 | 1 | 136,940
Research And Related Other Project Information | 137,699 | 1 | 1 | 137,699
SBIR/STTR Information | 21,289 | 1 | 1 | 21,289
Total | 683,220 |  |  | 683,220

Terry S. Clark,
Asst. Information Collection Clearance Officer.

[FR Doc. 2016-14489 Filed 6-17-16; 8:45 am]

BILLING CODE 4151-AE-P